DEPARTMENT OF COMMERCE

Foreign-Trade Zones Board

[Docket 62-2008]

Foreign-Trade Zone 57 - Charlotte, North Carolina, Application for Expansion

An application has been submitted to the Foreign-Trade Zones (FTZ) Board (the Board) by the North Carolina Department of Commerce, grantee of FTZ 57, requesting authority to expand its zone in the Charlotte, North Carolina, area, adjacent to the Charlotte CBP port of entry. The application was submitted pursuant to the provisions of the FTZ Act, as amended (19 U.S.C. 81a-81u), and the regulations of the Board (15 CFR Part 400). It was formally filed on October 28, 2008.

FTZ 57 was approved on April 28, 1980 (Board Order 156, 45 FR 30466, 05/08/80). The zone was expanded on September 23, 1982 (Board Order 199, 47 FR 43103, 09/30/82), on July 29, 2002 (Board Order 1240, 67 FR 51535, 08/08/02), and on February 9, 2005 (Board Order 1369, 70 FR 9613, 02/28/05).

The general-purpose zone currently consists of the following sites in the Charlotte, North Carolina, area: Site 1 (100,000 sq. ft.)--at 11425 Granite Street, Mecklenburg County; Site 1A (23 acres)--located at 1411 and 1701 Continental Boulevard, Mecklenburg County; Site 2 (137,368 sq. ft.)--located at 14620 Carowinds Boulevard, Mecklenburg County; Site 3 (26 acres)--located at International Airport Center, 3401 International Airport Drive, Charlotte; Site 4 (542 acres)--proposed industrial park (Great Meadows), located between US Highway 70 and Interstate 40, Burke County; Site 5 (78 acres, 2 parcels): Parcel 1 (40 acres)--Lenoir Business Park and Parcel 2 (38 acres)--J&M Industrial Park, located on NC Highway 18 in Lenoir (Caldwell County); Site 6 (160 acres)--Alexander County Rail Park, located on NC Highway 90, one mile east of Taylorsville, Alexander County; Site 7 (619 acres, 2 parcels) Parcel 1 (576 acres)--Hickory Regional Airport/Lakepark, located on Clement Boulevard, City of Hickory (Catawba/Burke Counties) and Parcel 2 (43 acres)--Consolidation Services distribution facility, 543 12th Street Drive, NW in Hickory, Catawba County; Site 8 (1 acre)--Conwareco Logistics, Inc., warehouse facility, 1070 Main Avenue NW, Hickory, Catawba County; Site 9 (4 acres)--Diamante Group LLC warehouse/industrial facility at 406 20th Street SE, Hickory, Catawba County; Site 10 (330 acres)--within the 700-acre Conover West Business Park in Hickory, Catawba County; Site 11 (311 acres, 11 parcels)--City of Newton industrial park, Newton, Catawba County; Site 12 (85 acres)-- Lakemont West Business Park located on Carowinds Boulevard, Charlotte; Site 13 (12 acres)-- West Logistics facility located at 2301 Nevada Boulevard, Charlotte; Site 14 (69 acres)--West Pointe Business Park located on West Pointe Drive, Charlotte; and, Site 15 (70 acres)--Ridge Creek Distribution Center, located at the intersection of General Drive and Ridge Creek Drive, Charlotte (includes 14 acres located at 10230 Ridge Creek Drive).

The applicant is now requesting authority to expand the general-purpose zone to include an additional site in the Charlotte, North Carolina, area: Proposed Site 16 (351 acres)--Monroe Corporate Center, Airport Road and Goldmine Road, Monroe. The site is owned by multiple owners. The site will provide public warehousing and distribution services to area businesses. No specific manufacturing authority is being requested at this time. Such requests would be made to the Board on a case-by-case basis.

In accordance with the Board's regulations, Kathleen Boyce of the FTZ Staff is designated examiner to investigate the application and report to the Board.

Public comment on the application is invited from interested parties. Submissions (original and 3 copies) shall be addressed to the Board's Executive Secretary at the address listed below. The closing period for their receipt is January 5, 2009. Rebuttal comments in response to material submitted during the foregoing period may be submitted during the subsequent 15-day period (to January 20, 2009).

A copy of the application and accompanying exhibits will be available for public inspection at the U.S. Department of Commerce Export Assistance Center, 521 E. Morehead St., Suite 435, Charlotte, North Carolina 28202; and, Office of the Executive Secretary, Foreign-Trade Zones Board, Room 2111, U.S. Department of Commerce, 1401 Constitution Avenue, NW, Washington, DC 20230.

For further information, contact Kathleen Boyce at Kathleen_Boyce@ita.doc.gov or (202) 482-1346.

Dated: Dated: October 29, 2008.
Andrew McGilvray,
Executive Secretary.

[FR Doc. E8-26286 Filed 11-3-08; 8:45 am]

BILLING CODE 3510-DS-S